DEPARTMENT OF ENERGY

Federal Energy Regulatory Commission

[Docket No. CP06-58-000]

Southern Natural Gas Company; Notice of Intent To Prepare an Environmental Assessment for the Proposed Southern Natural Gas Company's 2006 Abandonment and Replacement Project Request for Comments on Environmental Issues

March 8, 2006.

The staff of the Federal Energy Regulatory Commission (FERC or Commission) will prepare an environmental assessment (EA) that will discuss the environmental impacts of Southern Natural Gas Company's (Southern) application for its 2006 Abandonment and Replacement Project. Southern proposes to abandon, replace and modify facilities associated with its 22-inch North Main Loop Line and abandon its Pell City Compressor Station Unit No. 3 as part of an extensive pipeline integrity program. Pipeline changes would occur on Southern's existing system in Tuscaloosa County, Alabama. Abandonment of a compressor station would occur in St. Clair County, Alabama.

This notice announces the opening of the scoping period that will be used to gather environmental input from the public and interested agencies on the project. Scoping comments are requested by April 10, 2006.

With this notice, the staff of the FERC is asking other Federal, State, local and tribal agencies with jurisdiction and/or special expertise with respect to environmental issues to cooperate with us in the preparation of the EA. These agencies may choose to participate once they have evaluated Southern's proposal relative to their responsibilities. Agencies that would like to request cooperating status should follow the instructions for filing comments described in Appendix 1.

This notice is being sent to potentially affected landowners; Federal, state, and local government agencies; elected officials; environmental and public interest groups; Native American Tribes, other interested parties; local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings. It is available for viewing on the FERC Internet Web site (http://www.ferc.gov).

Background

Pipeline Abandonment, Replacement and Modification

Southern's 22-inch McConnells North Main Loop Line, which is part of its North Main Line System in Tuscaloosa County, Alabama, was commissioned in 1946 and is proposed for retirement as part of the application. Because of a reduction in contracted capacity in this area due to capacity turnback and capacity shift, this section of the line is no longer needed. However, to continue to provide reliable and safe gas supplies to the western Alabama region, Southern proposes to replace a section of the abandoned 22-inch McConnells North Main loop Line by extending the existing 24-inch 2nd North Main Loop Line.

Compressor Station Abandonment

The Pell City Compressor Station was built in 1989 to deliver firm contract volumes on the Gadsden Lateral Line. Since the Gadsden Lateral Line has not been operating at full contract capacity, the Pell City Unit No. 3 has not been required to deliver peak day demand on the Gadsden Lateral Line. Recent capacity turnback on the Gadsden Lateral Line makes it possible to abandon the Pell City Unit No. 3 since it is no longer required to meet firm peak day requirements.

Summary of the Proposed Project

Tuscaloosa, Alabama

• Abandon in place 4.55 miles of the McConnells 22-inch North Main Loop Segment from Milepost 260.74 to Milepost 265.29. This portion of the McConnells North Main Loop Segment would be pigged, filled with nitrogen, and capped before being abandoned in place.

• Abandon and remove 6.36 miles from Milepost 265.29 to Milepost 271.65. Southern proposes to remove all pipeline and associated piping assemblies along this 6.36 mile route, with the exception of the North River crossing at Milepost 269.45 and any uncased road crossings. The uncased road crossing would be cut and capped on each side of the road crossing and filled with grout for abandonment in place. The cased road crossings that are left void would also be filled with grout and abandoned in place.

• Install a new anchor block and blowoff/crossover assembly at Milepost 271.65, and, if necessary, continue maintenance by installing sleeves on coupled joints from Milepost 271.65 to Milepost 271.73.

• Extend its 24-inch 2nd North Main Loop Line by constructing, installing and operating 6.1 miles of 24-inch pipeline from Milepost 142.6 to Milepost 148.7 (Tuscaloosa County, Alabama). This segment of the 24-inch 2nd North Main Loop Line is parallel to Milepost 265.3 to Milepost 271.6 of the 22-inch North Main Loop Line, which is proposed to be abandoned above. Installation of the proposed 2nd North Main Loop Segment would be within the same location and same ditch line as Southern's 22-inch North Main Loop Line after the abandonment and removal of the 6.36 miles described above.

• Connect the proposed 2nd North Main Loop Segment to the existing 24-inch 2nd North Main Loop Line by removing the existing weld cap and making a tie-in at Milepost 142.56. It would also be necessary to install a new blowoff/crossover assembly at Milepost 148.93, which would be connected to the crossover assembly installed at Milepost 271.65 on the 22-inch North Main Loop Line as detailed above.

St. Clair County, Alabama

• Abandon in place its Pell City Compressor Station Unit No. 3 (St. Clair County, Alabama) at Milepost 352.8 on Southern's North Main and North Main Loop Lines. All existing gas piping systems would be disconnected including fuel gas and blind flanges would be installed at these points. Additionally, electric power would be disconnected from the unit such that all control systems would be inoperable. The unit would then be purged with nitrogen and prepared for long term storage in place.

The location of the project facilities is shown in Appendix 2.¹

¹ The appendices referenced in this notice are not being printed in the Federal Register. Copies of all appendices, other than appendix 1 (maps), are available on the Commission's Web site at the “eLibrary” link or from the Commissions Public Reference Room, 888 First Street, NE., Washington, DC 20426, or call (202) 502-8371. For instructions on connecting to eLibrary refer to the last page of this notice. Copies of the appendices were sent to all those receiving this notice in the mail.

Land Requirements

Abandonment, replacement and modification of the proposed facilities would require the temporary disturbance of about 105.24 acres of land, the majority of which is within Southern's existing 100-foot right-of-way. Additional extra work spaces of 10.32 acres) would be required at road and waterbody crossings.

Following construction, permanent land acquisition of 0.16 acres would be maintained as part of the right-of-way for the maintenance of the 24-inch 2nd North Main Loop Line Replacement section. The remaining acreage required during construction would be restored and allowed to revert to its former land uses.

The EA Process

We ² are preparing this EA to comply with the National Environmental Policy Act (NEPA) which requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. By this notice, we are also asking Federal, state, and local agencies with jurisdiction and/or special expertise with respect to environmental issues to formally cooperate with us in the preparation of the EA. Agencies that would like to request cooperating status should follow the instructions for filing comments below.

² “We”, “us”, and “our” refer to the environmental staff of the Office of Energy Projects (OEP).

Our independent analysis of the issues will be in the EA. Depending on the comments received during the scoping process, the EA may be published and mailed to Federal, state, and local agencies, public interest groups, interested individuals, affected landowners, newspapers, libraries, and the Commissions official service list for this proceeding. A comment period will be allotted for review if the EA is published. We will consider all comments on the EA before we make our recommendations to the Commission.

Currently Identified Environmental Issues

In the EA, we will discuss impacts that could occur as a result of the construction and operation of the project. We will also evaluate reasonable alternatives to the proposed project or portions of the project.

We have already identified several issues that we think deserve attention based on a preliminary review of the proposed facilities and the environmental information provided by Southern. This preliminary list of issues may be changed based on your comments and our analysis.

Project-related impact on:

• 7 residences/structures within 50 feet of the construction workspace.

• 1 active private well within 32 feet of the construction workspace.

• 2.6 acres of upland forest.

• Four federally-listed threatened and endangered species potentially in the project area.

• 9 emergent wetland crossings 3.5 acres.

• 23 water body crossings.

• Road crossings.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket Number CP06-58-000.

• Mail your comments so that they will be received in Washington, DC on or before April 10, 2006.

Please note that the Commission encourages electronic filing of comments. See 18 Code of Federal Regulations (CFR) 385.2001(a)(1)(iii) and the instructions on the Commission's Web site at http://www.ferc.gov under the “e-Filing” link and the link to the User's Guide. Prepare your submission in the same manner as you would if filing on paper and save it to a file on your hard drive. Before you can file comments you will need to create an account by clicking on “Login to File” and then “New User Account.” You will be asked to select the type of filing you are making. This filing is considered a “Comment on Filing.”

The determination of whether to distribute the EA for public comment will be based on the response to this notice. If you are interested in receiving it, please return the Information Requested (Appendix 3). An effort is being made to send this notice to all individuals affected by the proposed project. This includes all landowners who are potential right-of-way grantors, whose property may be used temporarily for project purposes, or who own homes within distances defined in the Commission's regulations of certain aboveground facilities.

Becoming an Intervenor

In addition to involvement in the EA scoping process, you may want to become an official party to the proceeding known as an “intervenor”. To become an intervenor you must file a motion to intervene according to Rule 214 of the Commission's Rules of Practice and Procedure (18 CFR 385.214). Intervenors have the right to seek rehearing of the Commission's decision. Motions to Intervene should be electtronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with email addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

If you wish to remain on our environmental mailing list, please return the Information Request Form included in Appendix 3. If you do not return this form, you will be removed from our mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TYY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-3669 Filed 3-14-06; 8:45 am]

BILLING CODE 6717-01-P